DEPARTMENT OF ENERGY

Federal Energy Regulatory Commission

[Docket No. PF14-17-000]

Louisiana LNG Energy, LLC; Supplemental Notice of Intent To Prepare an Environmental Impact Statement for the Planned Mississippi River LNG Project, and Request for Comments on Environmental Issues Related to Project Changes

On October 3, 2014, the Federal Energy Regulatory Commission (FERC or Commission) issued in Docket No. PF14-17-000 a Notice of Intent to Prepare an Environmental Impact Statement for the Planned Mississippi River LNG Project and Request for Comments on Environmental Issues (NOI). Since the NOI was issued Louisiana LNG Energy, LLC (Louisiana LNG) has made project changes. This Supplemental Notice is being issued to seek comments on the project changes and opens a new scoping period for interested parties to file comments on environmental issues specific to these facilities.

The October 3, 2014 NOI announced that the FERC is the lead federal agency responsible for conducting the environmental review of the Mississippi River LNG Project (Project) and that the Commission staff will prepare an environmental impact statement (EIS) that discusses the environmental impacts of the Project. Please refer to the NOI for more information about the overall facilities proposed by Louisiana LNG and FERC staff's EIS process. This EIS will be used in part by the Commission to determine whether the Mississippi River LNG Project is in the public convenience and necessity. On November 17, 2015, Louisiana LNG is planning on having another open house to give the new landowners the opportunity to attend and learn about the Project and the FERC process.

This Supplemental Notice is being sent to the Commission's current environmental mailing list for this Project, including new landowners that would be affected by the project changes. We encourage elected officials and government representatives to notify their constituents about the Project and inform them on how they can comment on their areas of concern. Please note that comments on this Notice should be filed with the Commission by October 30, 2015.

If your property would be affected by the Project, you should have already been contacted by a Louisiana LNG representative. A Louisiana LNG representative may have also contacted you or may contact you in the near future about the acquisition of an easement to construct, operate, and maintain the planned pipeline facilities or request permission to perform environmental surveys on your property. If the Commission approves the Project, that approval conveys with it the right of eminent domain for easement acquisition for the pipeline. Therefore, if easement negotiations fail to produce an agreement, the company could initiate condemnation proceedings where compensation would be determined in accordance with state law.

To help potentially affected landowners better understand the Commission and its environmental review process, the “For Citizens” section of the FERC Web site (www.ferc.gov) provides information about getting involved in FERC jurisdictional projects, and a citizens' guide entitled “An Interstate Natural Gas Facility On My Land? What Do I Need to Know?” This guide addresses a number of frequently asked questions, including the use of eminent domain and how to participate in the Commission's proceedings.

Summary of the Planned Project Changes

Louisiana LNG is planning the following changes in response to new ownership and additional environmental and engineering analysis:

• Increase the production capacity to 6.0 million tons per annum (MTPA) from 2.0 MTPA;

• increase the storage capacity of the LNG storage tanks to 140,000 cubic meters (net) from 100,000 cubic meters;

• increase the pipeline from the 1.9-mile 24-inch-diameter to 1.9-mile 36-inch-diameter (northern pipeline) with an associated meter station that would deliver gas from the Tennessee Gas interstate pipeline system;

• increase the pipeline from the 1.6-mile 12-inch-diameter to 3.5-mile 36-inch-diameter (southern pipeline) that would deliver gas from the Tennessee Gas Pipeline system to the facility;

• eliminate the truck loading facility from the Project design; and

• eliminate the compressor station from the Project design.

A map depicting the general location of the Project facilities is included in Appendix 1.¹

¹ The appendices referenced in this notice are not being printed in the Federal Register. Copies of appendices were sent to all those receiving this notice in the mail and are available at www.ferc.gov using the link called “eLibrary” of fromthe Commission's Public Reference Room, 888 First Street NE., Washington, DC 20426, or call (202) 502-8371. For instructions on connecting to eLibrary, refer to the last page of this notice.

Land Requirements for Construction

The planned construction would impact a 190-acre site on the east bank of the Mississippi River in Plaquemines Parish, Louisiana, which would include the liquefaction trains, LNG storage tanks, marine loading facilities, the electrical power station, and ancillary facilities. The full 190-acre site would be fenced and retained for operations of the planned Project. Construction of the two pipelines and associated meter stations would require approximately 65 acres of land, 33 of which would be permanently impacted during operations. Louisiana LNG is still in the planning phase for the Project and requirements for construction workspaces, access roads, and pipe storage/contractor yards would be determined during engineering and design.

The EIS Process

The National Environmental Policy Act (NEPA) requires the Commission to take into account the environmental impacts that could result from an action whenever it considers the authorization of LNG facilities. NEPA also requires us ² to discover and address concerns the public may have about proposals. This process is referred to as “scoping.” The main goal of the scoping process is to focus the analysis in the EIS on the important environmental issues. By this notice, the Commission requests public comments on the scope of the issues to address in the EIS. We will consider all filed comments during the preparation of the EIS.

² “We,” “us,” and “our” refer to the environmental staff of the Commission's Office of Energy Projects.

In the EIS we will discuss impacts that could occur as a result of the construction and operation of the proposed Project. We will also evaluate reasonable alternatives to the planned Project or portions of the Project, and make recommendations on how to lessen or avoid impacts on the various resource areas.

The EIS will present our independent analysis of the issues. We will publish and distribute the draft EIS for public comment. After the comment period, we will consider all timely comments and revise the document, as necessary, before issuing a final EIS. To ensure we have the opportunity to consider and address your comments, please carefully follow the instructions in the Public Participation section below.

Consultations Under Section 106 of the National Historic Preservation Act

In accordance with the Advisory Council on Historic Preservation's implementing regulations for section 106 of the National Historic Preservation Act, we are using this notice to initiate consultation with the Louisiana Office of Historic Preservation (State Historic Preservation Office [SHPO]), and to solicit their views and those of other government agencies, interested Indian tribes, and the public on the Project's potential effects on historic properties.³ We will define the Project-specific Area of Potential Effects (APE) in consultation with the SHPO as the Project develops. On natural gas facility projects, the APE at a minimum encompasses all areas subject to ground disturbance (examples include the terminal plot, construction right-of-way, contractor/pipe storage yards, compressor stations, and access roads). Our EIS for this Project will document our findings on the impacts on historic properties and summarize the status of consultations with the Louisiana Office of Historic Preservation under section 106.

³ The Advisory Council on Historic Preservation's regulations are at title 36, Code of Federal Regulations, part 800. Those regulations define historic properties as any prehistoric or historic district, site, building, structure, or object included in or eligible for inclusion in the National Register of Historic Places.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before October 30, 2015.

For your convenience, there are three methods which you can use to submit your comments to the Commission. In all instances please reference the Project docket number (PF14-17-000) with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the proposed Project.

When we publish and distribute the EIS, copies will be sent to the environmental mailing list for public review and comment. If you would prefer to receive a paper copy of the document instead of the CD version or would like to remove your name from the mailing list, please return the attached Information Request (Appendix 2).

Becoming an Intervenor

Once Louisiana LNG files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the Project is available from the Commission's Office of External Affairs, at (866) 208-FERC, or on the FERC Web site at www.ferc.gov using the “eLibrary” link. Click on the eLibrary link, click on “General Search” and enter the docket number, excluding the last three digits in the Docket Number field (i.e., PF14-17). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: September 30, 2015.
Kimberly D. Bose,
Secretary.

[FR Doc. 2015-25387 Filed 10-5-15; 8:45 am]

BILLING CODE 6717-01-P